DEPARTMENT OF TRANSPORTATION

Federal Aviation Administration

14 CFR Parts 142 and 194

[Docket No. FAA-2023-1275; Amdt. Nos. 142-11A and 194-1A]

RIN 2120-AL72

Enforcement Policy Regarding “Integration of Powered-Lift: Pilot Certification and Operations; Miscellaneous Amendments Related to Rotorcraft and Airplanes; Correction”

AGENCY: Federal Aviation Administration (FAA), U.S. Department of Transportation (DOT).

ACTION: Notice of enforcement discretion.

SUMMARY: This notice announces that the FAA will not take enforcement action against regulated entities for failing to comply with the final rule titled “Integration of Powered-Lift: Pilot Certification and Operations; Miscellaneous Amendments Related to Rotorcraft and Airplanes” until March 20, 2025.

DATES: As of March 11, 2025, the enforcement for the rule published November 21, 2024, at 89 FR 92296, and corrected January 3, 2025, at 90 FR 215, is delayed to March 20, 2025.

FOR FURTHER INFORMATION CONTACT: Christina Grabill, AFS-810, Federal Aviation Administration, 800 Independence Ave. SW, Washington, DC 20591; telephone (202) 267-1100; email 9-FAA-Powered-Lift@faa.gov.

ADDRESSES: Electronic Access and Filing: This document, the notice of proposed rulemaking (NPRM), all comments received, the final rule, the other rulemaking-specific documents in the docket, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.Govinfo.gov.

SUPPLEMENTARY INFORMATION: On January 3, 2025, the FAA issued a final rule titled “Integration of Powered-Lift: Pilot Certification and Operations; Miscellaneous Amendments Related to Rotorcraft and Airplanes; Correction” that was published in the Federal Register at 90 FR 215. The rule was a correction to a final rule titled “Integration of Powered-Lift: Pilot Certification and Operations; Miscellaneous Amendments Related to Rotorcraft and Airplanes” that was published on November 21, 2024, in the Federal Register at 89 FR 92296. The correction removed the incorrect version of two tables that had been inadvertently duplicated in the regulatory text of the Special Federal Aviation Regulation for powered-lift, and it corrected an incorrect paragraph reference in the Training center instructor eligibility requirements section of the Code of Federal Regulations. The final rule with these corrections became effective on January 21, 2025.

On January 20, 2025, the President issued a memorandum titled, “Regulatory Freeze Pending Review,” 90 FR 8249 (Jan. 28, 2025), to direct executive departments and agencies to consider postposing for 60 days the effective date for any rules that had been published in the Federal Register but had not taken effect for the purpose of reviewing any questions of fact, law, and policy that the rules may raise. While not explicitly subject to the President's memorandum, the FAA is providing notice that it will exercise its enforcement discretion and not enforce the provisions of the FAA's final rule titled “Integration of Powered-Lift: Pilot Certification and Operations; Miscellaneous Amendments Related to Rotorcraft and Airplanes; Correction” until March 20, 2025, to allow the officials appointed or designated by the President to review the final rule to ensure that it is consistent with the law and Administration policies.

Issued in Washington, DC.
Taneesha Dobyne Marshall,
Assistant Chief Counsel for Aviation Litigation, Federal Aviation Administration.

[FR Doc. 2025-03844 Filed 3-10-25; 8:45 am]

BILLING CODE 4910-59-P